DEPARTMENT OF COMMERCE

[Docket No. 111115680-1675-01]

RIN 0605-XA39

Privacy Act of 1974; Altered System of Records

AGENCY: U.S. Census Bureau, Department of Commerce.

ACTION: Notice of Amendment, Privacy Act System of Records: COMMERCE/CENSUS-6, Population Census Records for 1910 and All Subsequent Decennial Censuses.

SUMMARY: In accordance with the Privacy Act of 1974, as amended, Title 5 United States Code (U.S.C.) 552a(e)(4) and (11); and Office of Management and Budget (OMB) Circular A-130, Appendix I, “Federal Agency Responsibilities for Maintaining Records About Individuals,” the Department of Commerce is issuing notice of intent to amend the system of records under COMMERCE/CENSUS-6, Population Census Records for 1910 and All Subsequent Decennial Censuses. This amendment would update certain provisions concerning the safeguards for records in the system, update system manager information, and address and minor administrative updates. Accordingly, the COMMERCE/CENSUS-6, Population Census Records for 1910 and All Subsequent Decennial Censuses notice published in the Federal Register on November 1, 2002 (67 FR 66610), is amended as below. We invite public comment on the system amendment announced in this publication.

DATES: Comment Date: To be considered, written comments on the proposed amended system must be submitted on or before February 27, 2012.

Effective Date: Unless comments dictate otherwise, the amended system of records will become effective as proposed on the date of publication of a subsequent notice in the Federal Register.

ADDRESSES: Please address comments to: Chief Privacy Officer, Room 8H115, U.S. Census Bureau, Washington, DC 20233-3700.

SUPPLEMENTARY INFORMATION: The Decennial Census of Population and Housing is one of the few Federal activities for which authority rests in the Constitution (Article 1, Section 2). Decennial census data collection processes touch the lives of every person in the United States. Decennial census data products provide the basis for apportioning among the states the seats in the U.S. House of Representatives, for developing the districts that members of Congress, state legislators, and other elected individuals represent, for the distribution of billions of dollars each year to governmental entities at all levels, and for untold numbers of governmental and business decisions. Decennial census records may also be used by respondents, their heirs, or legal representatives for proof of age, citizenship, proof of relationship, and limited use for genealogical purposes. The first change updates the safeguards to comprehensively cover the safeguards provided at the U.S. Census Bureau. The second change updates the system manager and corresponding address. Additionally, this amendment provides minor administrative updates to record source categories and exemptions claimed for the system. The entire resulting system of records notice, as amended, appears below.

System Name:

COMMERCE/CENSUS-6, Population Census Records for 1910 and All Subsequent Decennial Censuses.

Security Classification:

None.

System Location:

U.S. Census Bureau, National Processing Center, 1201 East 10th Street, Jeffersonville, IN 47132.

Categories of Individuals Covered by the System:

All persons ever counted during decennial censuses of population (1910 and all subsequent decennial censuses).

Categories of Records in the System:

The categories of records contain records with direct identifiers (i.e., name) such as: household information: Name, address, relationship to head of household; demographic information: age (at time of census) or month/year (depending on census year), marital status, occupation and limited education data, race of household members, and other similar characteristics as reported in each census.

Authorities for Maintenance of the System:

Title 13, U.S.C. 8.

Purpose(s):

The purpose of this system is to search the 1910 and all subsequent decennial census records. Official census transcripts of the results are provided to the named person(s), their heirs, or legal representatives, upon receipt of a signed Application for Search of Census Records (Form BC-600). Census transcripts provide proof of age for Social Security or other retirement benefits. They can also be used in making passport applications, to prove relationship in settling estates, in limited genealogy research, or to satisfy other situations where a birth certificate or other legal documentation is needed but is not available. These records may be considered as statistical records pursuant to 5 U.S.C. 552(a), as they were originally collected for statistical purposes, and are now maintained to perform searches at the request of subject individuals under procedures published in the 15 CFR part 50 and in accordance with 13 U.S.C. 8 to provide proof of age, citizenship, proof of relationship, and limited use for genealogical purposes.

Routine Uses of Records Maintained in the System, Including Categories of Users and the Purposes of Such Uses:

None.

Disclosure to Consumer Reporting Agencies:

None.

Policies and Practices for Storing, Retrieving, Accessing, Retaining, and Disposing of Records in the System:

Storage:

Records are stored in a computerized environment, paper, microform, and electronic media. Paper copies, digital media, and electronic media that contain sensitive information are stored in secure facilities within a locked drawer or cabinet, or in secure storage facilities with 24-hour monitoring. Records may also be stored in a highly restricted secure computerized environment with a customized level of authentication and access control.

Retrievability:

A limited number of sworn U.S. Census Bureau staff will be permitted to retrieve individual records. Some census records are indexed by the SOUNDEX system—a numerical coding of the surname. The majority of census records are arranged on a geographic basis where the address must be known to determine which roll, microfilm, or electronic media that contains the name(s) for which a search is requested.

Safeguards:

The U.S. Census Bureau is committed to respecting respondent privacy and confidentiality. Through the Data Stewardship Program, we have implemented management, operational, and technical controls and practices to ensure high-level data protection to respondents of our censuses and surveys: (1) An unauthorized browsing policy protects respondent information from casual or inappropriate use by any person with access to Title 13 protected data. (2) All employees permitted to access the system are subject to the restriction, penalties, and prohibitions of 13 U.S.C. 9 and 214 as modified by Title 18 U.S.C. 3551, et seq., and the Privacy Act of 1974 (5 U.S.C. 552a(b)(4)). (3) All U.S. Census Bureau employees and persons with special sworn status will be regularly advised of regulations issued pursuant to Title 13 U.S.C. governing the confidentiality of the data, and will be required to complete an annual Title 13 awareness program. (4) All computer systems that maintain sensitive information are in compliance with the Federal Information Security Management Act, which includes auditing and controls over access to restricted data. (5) The use of unsecured telecommunications to transmit individually identifiable information is prohibited. (6) Paper copies that contain sensitive information are stored in secure facilities in a locked drawer or file cabinet behind a locked door. (7) Data sets released by the U.S. Census Bureau have been subjected to, and have successfully met, criteria established by an internal Disclosure Review Board to ensure no individually identifiable data are released. (8) Details from confidential records can only be released to the named persons, their heirs, or legal representatives upon submission of a notarized transcript application. (9) Individual records are confidential for 72 years (Title 44, U.S.C. § 2108 (b)).

Retention and Disposal:

Records are retained indefinitely. Records are stored at the Census Bureau's National Processing Center in Jeffersonville, Indiana, and also are provided to the National Archives and Records Administration for permanent retention. Records stored at the National Archives and Records Administration are not made public for 72 years.

System Manager and Address:

Associate Director for Field Operations, U.S. Census Bureau, 4600 Silver Hill Road, Washington, DC 20233-8000.

Notification Procedure:

None.

Record Access Procedures:

None.

Contesting Record Procedures:

None.

Record Source Categories:

Individuals covered by U.S. Census Bureau decennial censuses.

Exemptions Claimed for System:

Pursuant to 5 U.S.C. 552a(k)(4) this system of records is exempt from the notification, access, and contest requirements of the agency procedures (under 5 U.S.C. 552a(c)(3), (d), (e)(1), (e)(4)(G), (H), and (I), and (f)). This exemption is applicable as the data are maintained by the U.S. Census Bureau and required by Title 13 to be used solely as statistical records and are not used in whole or in part in making any determination about an identifiable individual. This exemption is made in accordance with the Department's rules, which appear in 15 CFR part 4, subpart B, and in accordance with agency rules published in the rules section of this Federal Register.

Dated: January 18, 2012.
Jonathan R. Cantor,
Chief Privacy Officer, Department of Commerce.

[FR Doc. 2012-1592 Filed 1-25-12; 8:45 am]

BILLING CODE 3510-07-P